DEPARTMENT OF DEFENSE

Office of the Secretary

[Docket ID: DoD-2024-OS-0150]

Submission for OMB Review; Comment Request

AGENCY: Chief Information Officer (CIO), Department of Defense (DoD).

ACTION: 30-Day information collection notice.

SUMMARY: The DoD has submitted to the Office of Management and Budget (OMB) for clearance the following proposal for collection of information under the provisions of the Paperwork Reduction Act.

DATES: Consideration will be given to all comments received by June 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574 (voice), whs.mc-alex.esd.mbx.dd-dod-information-collections@mail.mil (email).

SUPPLEMENTARY INFORMATION:

Title; Associated Form; and OMB Number: System Authorization Access Request Form; DD 2875; OMB Control Number 0704-0630.

Type of Request: Extension.

Number of Respondents: 900,000.

Responses per Respondent: 8.

Annual Responses: 7,200,000.

Average Burden per Response: 5 minutes.

Annual Burden Hours: 600,000.

Needs and Uses: The information collection is necessary for validating the trustworthiness of individuals who request access to DoD systems and information. When an individual requires access to a DoD information system, application, or database, he/she retrieves the DD Form 2875. Executive Order 10450 “Security Requirements for Government Employment” establishes the security requirements for government employment. The requestor's security requirements (background investigation and clearance information) are identified on the DD Form 2875 and validated by the cognizant Security Manager. Collection of the requestor's information ensures that any system access granted is consistent with the interests of the national security.

Affected Public: Individuals or households.

Frequency: As needed.

Respondent's Obligation: Voluntary.

OMB Desk Officer: Ms. Jasmeet Seehra.

DOD Clearance Officer: Mr. Reginald Lucas.

Dated: May 16, 2025.
Stephanie J. Bost,
Alternate OSD Federal Register Liaison Officer, Department of Defense.

[FR Doc. 2025-09168 Filed 5-21-25; 8:45 am]

BILLING CODE 6001-FR-P